DEPARTMENT OF THE INTERIOR

National Park Service

[NPS-SERO-RTCA-0323-9915; 5041-STC]

Wekiva River System Advisory Management Committee Meetings (FY2012)

AGENCY: National Park Service, Interior.

ACTION: Notice of upcoming scheduled meetings.

SUMMARY: This notice announces a schedule of upcoming meetings for the Wekiva River System Advisory Management Committee.

DATES: The meetings are scheduled for: May 8, 2012 (Dining Hall), August 8, 2012 (Recreation Hall), October 10, 2012 (Recreation Hall), and December 5, 2012 (Recreation Hall).

Time: All scheduled meetings will begin at 3 p.m. and will end by 5 p.m.

ADDRESSES: All scheduled meetings will be held at the Wekiwa Springs State Park, 1800 Wekiwa Circle, Apopka, FL 32712. Call (407) 884-2006 or visit http://www.floridastateparks.org/wekiwasprings/ for additional information on this facility.

FOR FURTHER INFORMATION CONTACT: Jaime Doubek-Racine, DFO, Wekiva Wild and Scenic River, RTCA Program, Florida Field Office, Southeast Region, 5342 Clark Road, PMB #123, Sarasota, Florida 34233, tel. (941) 685-5912.

SUPPLEMENTARY INFORMATION: The scheduled meetings will be open to the public. Each scheduled meeting will result in decisions and steps that advance the Wekiva River System Advisory Management Committee toward its objective of managing and implementing projects developed from the Comprehensive Management Plan for the Wekiva Wild and Scenic River. Any member of the public may file with the Committee a written statement concerning any issues relating to the development of the Comprehensive Management Plan for the Wekiva Wild and Scenic River. Before including your address, telephone number, email address, or other personal identifying information in your comments, you should be aware that your entire comment—including your personal identifying information—may be made publicly available at any time. While you can ask us in your comment to withhold your personal identifying information from public review, we cannot guarantee that we will be able to do so. The statement should be addressed to the Wekiva River System Advisory Management Committee, National Park Service, 5342 Clark Road PMB #123, Sarasota, Florida 34233.

The Wekiva River System Advisory Management Committee was established by Public Law 106-299 to assist in the development of the comprehensive management plan for the Wekiva River System and provide advice to the Secretary in carrying out management responsibilities of the Secretary under the Wild and Scenic Rivers Act (16 U.S.C. 1274).

Efforts have been made locally to ensure that the interested public is aware of the meeting dates.

Dated: April 6, 2012.
Jaime Doubek-Racine,
Designated Federal Officer, Wekiva Wild and Scenic River, Southeast Region.

[FR Doc. 2012-9279 Filed 4-17-12; 8:45 am]

BILLING CODE 4312-52-P